DEPARTMENT OF EDUCATION

[Docket No.: ED-2013-ICCD-0108]

Agency Information Collection Activities; Submission to the Office of Management and Budget for Review and Approval; Comment Request; Federal Direct Stafford/Ford Loan and Federal Direct Subsidized/Unsubsidized Stafford/Ford Loan Master Promissory Note

Correction

In notice document 2013-26710, appearing on page 66906 in the issue of Thursday, November 7, 2013, make the following correction:

On page 66906, in the second column, on the 21st line, “November 7, 2013” should read “December 9, 2013”.

[FR Doc. C1-2013-26710 Filed 11-12-13; 8:45 am]

BILLING CODE 1505-01-D